DEPARTMENT OF JUSTICE

Antitrust Division

Notice Pursuant to the National Cooperative Research and Production Act of 1993—Medical Technology Enterprise Consortium

Notice is hereby given that, on April 19, 2017, pursuant to Section 6(a) of the National Cooperative Research and Production Act of 1993, 15 U.S.C. 4301 et seq. (“the Act”), Medical Technology Enterprise Consortium (“MTEC”) has filed written notifications simultaneously with the Attorney General and the Federal Trade Commission disclosing changes in its membership. The notifications were filed for the purpose of extending the Act's provisions limiting the recovery of antitrust plaintiffs to actual damages under specified circumstances. Specifically, Arizona State University, Tempe, AZ; Humacyte, Morrisville, NC; Upside Biotechnologies, Ltd., Auckland, NEW ZEALAND; Institute for Applied Neurosciences, Charleston, SC; The North Carolina Biotechnology Center, Research Triangle Park, NC; Brainpaths LLC, Las Vegas, NV; Applied Research Associates, Inc., Albuquerque, NM; Magle Chemoswed AB, Lund, SWEDEN; Nano Terra, Inc., Cambridge, MA; Information Visualization and Innovative Research Inc., Sarasota, FL; Carnegie Mellon University, Pittsburgh, PA; Applied Research Center, Aiken, SC; CFD Research Corporation, Huntsville, AL; Military Health Research, Laurel, MD; Ripple LLC, Salt Lake City, UT; SimQuest, Annapolis, MD; and Full Spectrum Omega, Inc., Huntington Beach, CA, have been added as parties to this venture.

Also, Actuated Medical, Inc., Bellafonte, PA; North American Rescue, LLC, Greer, SC; Second Sight Medical Products, Inc., Sylmar, CA; Articulate Biomedical, LLC, Ithaca, NY; Agile Immersive, Arlington, VA; Techline, Willow Grove, PA; Axonova Medical, LLC, Philadelphia, PA; Gateway Biotechnology, Inc., Kent, OH; IDIQ Inc., Fallbrook, CA; University of Michigan, Ann Arbor, MI; and Eagle Applied Sciences, LLC, San Antonio, TX, have withdrawn as parties to this venture.

No other changes have been made in either the membership or planned activity of the group research project. Membership in this group research project remains open, and MTEC intends to file additional written notifications disclosing all changes in membership.

On May 9, 2014, MTEC filed its original notification pursuant to Section 6(a) of the Act. The Department of Justice published a notice in the Federal Register pursuant to Section 6(b) of the Act on June 9, 2014 (79 FR 32999).

The last notification was filed with the Department on August 19, 2016. A notice was published in the Federal Register pursuant to Section 6(b) of the Act on September 20, 2016 (81 FR 64508).

Patricia A. Brink,
Director of Civil Enforcement, Antitrust Division.

[FR Doc. 2017-09616 Filed 5-11-17; 8:45 am]

BILLING CODE P